DEPARTMENT OF DEFENSE

Defense Acquisition Regulations System

48 CFR Part 252

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective Date: July 24, 2012.

FOR FURTHER INFORMATION CONTACT: Ms. Ynette Shelkin, Defense Acquisition Regulations System, OUSD(AT&L)DPAP(DARS), Room 3B855, 3060 Defense Pentagon, Washington, DC 20301-3060. Telephone 571-372-6089; facsimile 571-372-6094.

SUPPLEMENTARY INFORMATION: This final rule amends the DFARS as follows:

1. Adds paragraph (d)(1)(vii) to clause 252.204-7007, Alternate A, Annual Representations and Certifications, which was inadvertently removed from the Code of Federal Regulations with the publication of DFARS Case 2011-D048 (77 FR 19128), and makes a conforming change to the clause date.

2. Conforms statutory titles to the new Positive Law Codification of Title 41, United Sates Code, “Public Contracts,” in Alternates IV and V of clause 252.225-7036, Buy American—Free Trade Agreements—Balance of Payments Program and makes conforming changes to the dates of the Alternates, which were inadvertently omitted from publication of the final rule under DFARS Case 2012-D003 (77 FR 35879).

List of Subjects in 48 CFR Part 252

Government procurement.

Ynette R. Shelkin,
Editor, Defense Acquisition Regulations System.

Therefore, 48 CFR part 252 is amended as follows:

PART 252—SOLICITATION PROVISIONS AND CONTRACT CLAUSES

1. The authority citation for 48 CFR part 252 continues to read as follows:

Authority: 41 U.S.C. 1303 and 48 CFR chapter 1.

2. Section 252.204-7007 is amended—

a. By removing the clause date “(JUN 2012)” and adding “(JUL 2012)” in its place; and

b. By adding paragraph (d)(1)(vii) to read as follows:

252.204-7007 Alternate A, Annual Representations and Certifications.

* * * * *

(d) * * *

(1) * * *

(vii) 252.247-7022, Representation of Extent of Transportation by Sea. Applies to all solicitations except those for direct purchase of ocean transportation services or those with an anticipated value at or below the simplified acquisition threshold.

* * * * *

252.225-7036 [Amended]

3. Section 252.225-7036 is amended in Alternates IV and V by removing the clause date “(MAY 2012)” and adding “(JUN 2012)” in its place and in paragraph (c), by removing “Act”.

[FR Doc. 2012-17586 Filed 7-23-12; 8:45 am]

BILLING CODE 5001-06-P